GENERAL SERVICES ADMINISTRATION

[OMB Control No. 3090-0118; Docket No. 2020-0001; Sequence No. 4]

Submission for OMB Review; Federal Management Regulation; Standard Form 94, Statement of Witness

AGENCY: Office of Government-wide Policy (OGP), General Services Administration (GSA).

ACTION: Notice; request for comments.

SUMMARY: Under the provisions of the Paperwork Reduction Act, the Regulatory Secretariat Division will be submitting to the Office of Management and Budget (OMB) a request to review and approve an existing information collection requirement regarding OMB Control No: 3090-0118; Standard Form 94, Statement of Witness.

DATES: Submit comments on or before September 10, 2020.

ADDRESSES: Written comments and recommendations for this information collection should be sent within 30 days of publication of this notice to www.reginfo.gov/public/do/PRAMain. Find this particular information collection by selecting “Currently under Review—Open for Public Comments” or by using the search function. If your comment cannot be submitted using www.reginfo.gov/public/do/PRAMain, call or email the points of contact in the FOR FURTHER INFORMATION CONTACT section of this document for alternate instructions.

FOR FURTHER INFORMATION CONTACT: Mr. Ray Wynter, GSA, Office of Government-wide Policy (MAG), Office of Asset and Transportation Management, at telephone 202-501-3802 or via email to ray.wynter@gsa.gov.

SUPPLEMENTARY INFORMATION:

A. Purpose

GSA's Office of Government-wide Policy is announcing the availability of Standard Form 94, Statement of Witness that is publicly available on http://www.gsa.gov/forms. This form will be used to collect information from witnesses reporting accidents and/or damage to Federal Fleet Vehicles. Standard Form (SF) 94 provides additional accounts of motor vehicle accidents that supplement statements made by a motor vehicle operator. Use of the SF 94 is prescribed in Federal Management Regulation, 41 CFR 102-34.290(b) and Federal Property Management Regulations, 41 CFR 101-39.401(b). The SF 94 is usually completed at the time of an accident involving a motor vehicle owned or leased by the Government.

The SF 94 is an essential part of the investigation of motor vehicle accidents, especially those involving the public with a potential for claims against the United States. It is a vital piece of information in lawsuits and provides the Assistant United States Attorneys with a written statement to refresh recollection of accidents, as necessary.

B. Annual Reporting Burden

Respondents: 290.

Responses per Respondent: 1.

Total Annual Responses: 290.

Hours Per Response: 0.333.

Total Burden Hours: 97.

C. Public Comments

A 60-day notice was published in the Federal Register at 85 FR 34631 on June 5, 2020. No comments were received.

Obtaining Copies of Proposals: Requesters may obtain a copy of the information collection documents from the Regulatory Secretariat Division, at GSARegSec@gsa.gov. Please cite OMB Control No. 3090-0118, Standard Form 94, Statement of Witness, in all correspondence.

Beth Anne Killoran,
Deputy Chief Information Officer.

[FR Doc. 2020-17474 Filed 8-10-20; 8:45 am]

BILLING CODE 6820-14-P